DEPARTMENT OF THE INTERIOR

Bureau of Land Management

[WY-030-1310-DB]

Notice of Availability of Final Environmental Impact Statement for the Atlantic Rim Natural Gas Development Project; Wyoming

AGENCY: Bureau of Land Management, Interior.

ACTION: Notice of Availability of a Final Environmental Impact Statement (FEIS) for the Atlantic Rim Natural Gas Development Project, Rawlins, Wyoming.

SUMMARY: The Bureau of Land Management (BLM) announces the availability of the Atlantic Rim Natural Gas Development Project FEIS. The FEIS analyzes the environmental consequences of a proposed natural gas development and production operations on the 270,080 acre Atlantic Rim project area. The area is located within the administrative jurisdiction of the BLM Rawlins Field Office, and runs in an arc between Rawlins and Baggs in:

Tps. 12 to 20 N., Rs. 89 to 93 W.,

Sixth Principal Meridian, Carbon County, Wyoming

ADDRESSES: A copy of the FEIS has been sent to affected Federal, State, and local government agencies and to interested parties. The document is available electronically on the following Web site: http://www.wy.blm.gov/rfo/nepa.htm. If you are interested in viewing material referenced or posted to the BLM Web site, please contact the Rawlins Field Office.

Copies of the FEIS will be available for public inspection at the following locations:

• Bureau of Land Management, Wyoming State Office, 5353 Yellowstone Road, Cheyenne, Wyoming 82003.

• Bureau of Land Management, Rawlins Field Office, 1300 N. Third Street, Rawlins, Wyoming 82301.

FOR FURTHER INFORMATION CONTACT: Mr. David Simons, Project Lead, BLM Rawlins Field Office, 1300 N. Third Street, Rawlins, WY 82301. Requests for information may be sent electronically to: atlantic_rim_eis_wymail@blm.gov. Mr. Simons may also be reached at (307) 328-4328.

SUPPLEMENTARY INFORMATION: Anadarko E & P Company, LP, is the lead proponent for a proposal to explore for and develop natural gas resources in the Atlantic Rim project area. Double Eagle Petroleum and Mining Company and Warren Resources, Inc., are also participating in this proposal. The Operators propose to drill up to 2,000 wells—1,800 completed to coal formations and 200 to other geologic targets for natural gas. Drilling would occur within the Atlantic Rim Project Area over the next 20 years with life-of-project expected to be 30 to 50 years. Well density completed in coal formations would be up to eight wells per 640-acre section of land; wells in other geologic formations would be spaced no tighter than four wells per section.

The proposal arises from the results of exploratory drilling under an interim drilling plan. Prior to preparation of the Atlantic Rim EIS, six exploratory plans of development (PODs) of up to 24 wells each were completed in areas believed to have potential for commercial quantities of natural gas within the project area. Approximately 325 oil and gas wells have been drilled or approved for drilling within the Atlantic Rim project area.

On June 26, 2001, the BLM published the Notice of Intent to prepare an EIS for the Atlantic Rim Natural Gas Development Project in the Federal Register. Based on issues and concerns identified during scoping and throughout the NEPA process, the Atlantic Rim FEIS focuses on impacts to air quality, biological and physical resources, transportation, socio-economics, and cumulative effects. In compliance with Section 7(c) of the Endangered Species Act, as amended, the FEIS includes a biological assessment for the purpose of identifying endangered or threatened species which may be affected by the Proposed Action.

On December 16, 2005, BLM published its Notice of Availability of the Draft EIS for this project in the Federal Register. The 60-day public comment period ended on February 16, 2006. Over 60,000 comments were received on the Draft EIS.

The Atlantic Rim FEIS analyzes four alternatives in detail:

1. The Proposed Action Alternative;

2. Alternative A—The No Action Alternative, which means the project as proposed would be rejected by the BLM;

3. Alternative B—See discussion below;

4. Alternative C—Special protection of sensitive resources; and,

5. Alternative D—Natural gas development with disturbance limitations.

The agency's preferred alternative is Alternative D.

Based on comments received to the draft EIS, the effects of long delays on allowable oil and gas development on leaseholders and mineral rights, and the need for BLM to allow reasonable access across Federal lands for mineral development on private and State lands, Alternative B in the Draft EIS was dropped from further consideration.

The Atlantic Rim FEIS analyzes the impacts of the Proposed Action (development of 2,000 natural gas wells), principally including the construction of access roads, pipelines, and other ancillary facilities (gas processing plant, compressor stations, water disposal sites, etc.). In Alternative A, the No Action Alternative, BLM would reject the proposed action as submitted. For Alternative C, disturbance would be reduced compared to the proposed action and would be intensively mitigated or limited where sensitive resource values exist or overlap. Examples of sensitive resources include threatened, endangered, and sensitive wildlife; fish and plant species; fragile soils; and unique cultural features. Comments received on the Draft EIS indicated the level of disturbance and number of well pad restrictions may render the project unfeasible under this alternative. Alternative D is similar to the Proposed Action, but would limit surface disturbance to a percentage of the project area at any one time.

Dated: September 8, 2006.
Donald A. Simpson,
Acting State Director.

[FR Doc. E6-20376 Filed 11-30-06; 8:45 am]

BILLING CODE 4310-22-P